DEPARTMENT OF THE INTERIOR

Bureau of Land Management

[L19900000.EY0000.LLWO320000]

Renewal of Approved Information Collection, OMB Control Number 1004-0169

AGENCY: Bureau of Land Management, Interior.

ACTION: 60-day notice and request for comments.

SUMMARY: In compliance with the Paperwork Reduction Act of 1995, the Bureau of Land Management (BLM) announces its intention to request that the Office of Management and Budget (OMB) renew OMB Control Number 1004-0169 for the paperwork requirements in 43 CFR subpart 3715, which pertain to use and occupancy under the mining laws.

DATES: Please submit your comments to the BLM at the address below on or before July 11, 2011.

ADDRESSES: Comments may be submitted by mail, fax, or electronic mail.

Mail: U.S. Department of the Interior, Bureau of Land Management, 1849 C Street, NW., Room 2134LM, Attention: Jean Sonneman, Washington, DC 20240.

Fax: to Jean Sonneman at 202-912-7181.

Electronic mail: Jean_Sonneman@blm.gov.

Please indicate “Attn: 1004-0169” regardless of the form of your comments.

FOR FURTHER INFORMATION CONTACT: You may contact Adam Merrill at 202-912-7044. Persons who use a telecommunication device for the deaf (TDD) may call the Federal Information Relay Service (FIRS) at 1-800-877-8339, to contact Mr. Merrill.

SUPPLEMENTARY INFORMATION: OMB regulations at 5 CFR 1320, which implement provisions of the Paperwork Reduction Act (44 U.S.C. 3501-3521), require that interested members of the public and affected agencies be provided an opportunity to comment on information collection and recordkeeping activities (see 5 CFR 1320.8(d) and 1320.12(a)). The Paperwork Reduction Act provides that an agency may not conduct or sponsor a collection of information unless it displays a currently valid OMB control number. Until OMB approves a collection of information, you are not obligated to respond.

This notice identifies information collections that are contained in 43 CFR part 3715. The BLM will request that the OMB approve this information collection activity for a 3-year term. Comments are invited on: (1) The need for the collection of information for the performance of the functions of the agency; (2) the accuracy of the agency's burden estimates; (3) ways to enhance the quality, utility, and clarity of the information collection; and (4) ways to minimize the information collection burden on respondents, such as use of automated means of collection of the information. A summary of the public comments will accompany the BLM's submission of the information collection requests to OMB.

All comments will become a matter of public record. Before including your address, phone number, e-mail address, or other personal identifying information in your comment, you should be aware that your entire comment—including your personal identifying information—may be made publicly available at any time. While you can ask us in your comment to withhold your personal identifying information from public review, we cannot guarantee that we will be able to do so.

The following information is provided for the information collection:

Title: Use and Occupancy Under the Mining Laws (43 CFR subpart 3715).

Form: None.

OMB Control Number: 1004-0169.

Abstract: This notice pertains to the collection of information that is necessary to manage the use and occupancy of public lands for developing mineral deposits under the Mining Laws.

Frequency: On occasion.

Estimated Number and Description of Respondents: 150 mining claimants and operators of prospecting, exploration, mining, and processing operations.

Estimated Reporting and Recordkeeping “Hour” Burden: 300 hours.

Estimated Reporting and Recordkeeping “Non-Hour Cost” Burden: None.

Jean Sonneman,
Bureau of Land Management, Information Collection Clearance Officer.

[FR Doc. 2011-11289 Filed 5-9-11; 8:45 am]

BILLING CODE 4310-84-P